DEPARTMENT OF HOMELAND SECURITY

Coast Guard

33 CFR Parts 100 and 165

[Docket No. USCG-2011-0551]

Special Local Regulation and Safety Zone; America's Cup Sailing Events, San Francisco, CA

AGENCY: Coast Guard, DHS.

ACTION: Proposed rule; notice of availability and request for comments.

SUMMARY: The Coast Guard announces the availability of a draft environmental assessment of the temporary special local regulation and temporary safety zone proposed for those portions of the “America's Cup World Series,” the “Louis Vuitton Cup” challenger selection series, and the “America's Cup Finals Match” sailing regattas that may be conducted in the waters of San Francisco Bay adjacent to the City of San Francisco waterfront in the vicinity of the Golden Gate Bridge and Alcatraz Island between August and September 2012 and between July and September 2013. We request your comments on this draft environmental assessment.

DATES: Comments and related material must be submitted to our online docket via http://www.regulations.gov on or before April 30, 2012, or reach the Docket Management Facility by that date.

ADDRESSES: You may submit comments identified by docket number USCG-2011-0551 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or email LCDR Aaron Lubrano, Coast Guard Sector San Francisco, U.S. Coast Guard; telephone (415) 399-3446, email Aaron.C.Lubrano@uscg.mil. If you have questions on viewing or submitting material to the docket, call Renee V. Wright, Program Manager, Docket Operations, telephone (202) 366-9826.

SUPPLEMENTARY INFORMATION:

Public Participation and Request for Comments

We encourage you to submit comments and related material on the draft environmental assessment. All comments received will be posted, without change, to http://www.regulations.gov and will include any personal information you have provided.

Submitting comments: If you submit a comment, please include the docket number for this notice (USCG-2011-0551) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, type “USCG-2011-0551” and click “Search.” Then click “Submit a Comment” in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and draft environmental assessment: To view the comments and draft environmental assessment, go to http://www.regulations.gov, type “USCG-2011-0551” and click “Search.” Then click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

The America's Cup Race Management has applied for a Marine Event Permit to hold the 34th America's Cup races on the waters of San Francisco Bay in California. The Coast Guard has not approved the Marine Event Permit and is still evaluating the application, including the potential environmental impact of the requested permit. If the permit is approved, however, we anticipate that a special local regulation may be necessary to ensure public safety during the races. To provide adequate time for public input, we proposed a special local regulation and safety zone on January 30, 2012 (77 FR 4501).

In the January 2012 notice of proposed rulemaking, the Coast Guard proposed regulations for the 2012 and 2013 races. These include proposed regulated areas surrounding the primary and contingent race areas; a designated area for recreational swimmers, rowers, and kayakers; a transit zone for using during the 2013 races; restrictions on vessel traffic and the use of Anchorage No. 7; and a safety zone around racing vessels. These proposed rules are temporary and would be enforced only on race days. The public comment period on these proposed rules remains open through April 30, 2012. If the Marine Event Permit is not approved, we will withdraw the proposed rules.

Draft Environmental Assessment

In accordance with the National Environmental Policy Act of 1969 (NEPA) (42 U.S.C. 4321-4370f), Department of Homeland Security Management Directive 023-01, and Commandant Instruction M16475.lD, we have prepared a draft environmental assessment (EA) of the proposed special local regulation and safety zone described above. The draft EA, which is available in the docket, identifies and examines the reasonable alternatives and assesses their potential environmental impact. It also identifies the preferred alternative and how it affects the proposed rulemaking.

We request your comments on environmental concerns that you may have related to the draft EA. This includes suggesting analyses and methodologies for use in the EA or possible sources of data or information not included in the draft EA. Your comments will be considered in preparing the final EA.

This notice is issued under the authority of 5 U.S.C. 552(a), and 33 CFR 1.05-1, 100.35, and 165.5.

Dated: March 29, 2012.
Cynthia L. Stowe,
Captain, U.S. Coast Guard, Captain of the Port San Francisco.

[FR Doc. 2012-9070 Filed 4-16-12; 8:45 am]

BILLING CODE 9110-04-P